DEPARTMENT OF COMMERCE

Census Bureau

Agency Information Collection Activities; Submission to the Office of Management and Budget (OMB) for Review and Approval; Comment Request; Business Enterprise Research and Development Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 28, 2021 during a 60-day comment period. This notice allows for an additional 30 days for public comments.

Agency: U.S. Census Bureau, Department of Commerce.

Title: Business Enterprise Research and Development Survey.

OMB Control Number: 0607-0912.

Form Number(s): BRD-1.

Type of Request: Regular submission, Request for a Revision of a Currently Approved Collection.

Number of Respondents: 47,500.

Average Hours per Response: 2 hours and 37 minutes.

Burden Hours: 124,450.

Needs and Uses: The Census Bureau is requesting clearance to conduct the Business Enterprise Research and Development Survey (BERD) for the 2021-2023 survey years with the revisions outlined in this document. Companies are the major performers of research and development (R&D) in the United States, accounting for over 70 percent of total U.S. R&D expenditures each year. A consistent business R&D information base is essential to government officials formulating public policy, industry personnel involved in corporate planning, and members of the academic community conducting research. To develop policies designed to promote and enhance science and technology, past trends and the present status of R&D must be known and analyzed. Without comprehensive business R&D statistics, it would be impossible to evaluate the health of science and technology in the United States or to make comparisons between the technological progress of our country and that of other nations.

BERD is a joint statistical project between the National Center for Science and Engineering Statistics (NCSES) within the National Science Foundation (NSF) and the Census Bureau.

NCSES has published annual R&D statistics collected from the Survey of Industrial Research and Development (1953-2007), the Business R&D and Innovation Survey (2008-2016), the Business Research and Development Survey (2017 and 2018), and the Business Enterprise Research and Development Survey (2019 and 2020) for 67 years. The results of the surveys are used to assess trends in R&D expenditures by industry sector, investigate productivity determinants, formulate science and tax policy, and compare individual company performance with industry averages. This survey is the Nation's primary source for international comparative statistics on business R&D spending.

BERD will continue to collect the following types of information:

• R&D expense based on accepted accounting standards.

• Worldwide R&D of domestic companies.

• Business segment detail.

• R&D related capital expenditures.

• Detailed data about the R&D workforce.

• R&D strategy and data on the potential impact of R&D on the market.

Beginning in 2020, in an effort to reduce burden, BERD began rotating select content off the survey in alternating years. In 2020, questions related to detail of R&D performed by others, activities with academia, industries of business and specific federal agency funding R&D, and areas of application for R&D were removed from BERD. In 2021, all of those questions will be reintroduced to the survey and the Intellectual Property and Technology Transfer Section will be removed from the survey. BERD plans to continue rotating this content in alternating years.

Beginning in 2021, the BERD will revise its existing Capital Expenditures section to collect additional information on assets. Cognitive testing on these questions conducted by the Census Bureau in 2018 revealed that these questions pose no substantive impact on burden (the data requested are all readily available in most companies' books) and would provide context on capital stock of R&D active companies not currently available in any other data source. After collecting two consecutive years of data (for 2021 and 2022), BERD plans to collect the additional assets questions in alternating years, similar to the other rotating content. So, in 2023, BERD would have the smaller [previously collected] Capital Expenditures section, and in 2024 would reinstate the more robust Assets section and so on.

Information from BERD will continue to support NCSES' responsibility to collect information on Research and Development for overall support for Federal policy discussions, as required under the America COMPETES Reauthorization Act of 2010.

Policy officials from many Federal agencies rely on these statistics for essential information. Businesses and trade organizations rely on BERD data to benchmark their industry's performance against others. For example, total U.S. R&D expenditures statistics are used by the Bureau of Economic Analysis (BEA) for incorporating R&D as fixed investment in updates to the National Income and Product Accounts (NIPAs). Also, NCSES, BEA and the Census Bureau periodically seek to use BERD data to augment global R&D investment information that is obtained from BEA's Foreign Direct Investment (FDI) and U.S. Direct Investment Abroad (USDIA) surveys. Further, the Census Bureau links data collected by BERD with other statistical files. At the Census Bureau, historical company-level R&D data are linked to a file that contains information on the outputs and inputs of companies' manufacturing plants. Researchers can analyze the relationships between R&D funding and other economic variables by using micro-level data.

Individuals and organizations access the survey statistics via the internet in annual InfoBriefs published by NCSES that announce the availability of statistics from each cycle of BERD and detailed statistical table reports that contain all of the statistics NCSES produces from BERD. Information about the kinds of projects that rely on statistics from BERD is available from internal records of Census' Center for Economic Studies. In addition, survey statistics are regularly cited in trade publications and many researchers use the survey statistics from these secondary sources without directly contacting NCSES or the Census Bureau.

Affected Public: Business or other for-profit organizations.

Frequency: Annually.

Respondent's Obligation: Mandatory.

Legal Authority: The survey is conducted under the authority of Title 13, United States Code, Sections 8(b), 131, and 182; Title 42, United States Code, Sections 1861-76 (National Science Foundation Act of 1950, as amended); and Section 505 within the America COMPETES Reauthorization Act of 2010.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0912.

Sheleen Dumas,
Department PRA Clearance Officer, Office of the Chief Information Officer, Commerce Department.

[FR Doc. 2021-19134 Filed 9-2-21; 8:45 am]

BILLING CODE 3510-07-P